DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Combating Autism Act Initiative Evaluation (New) .

Background: In response to the growing need for research and resources devoted to autism spectrum disorder (ASD) and other developmental disorders (DD), the U.S. Congress passed the Combating Autism Act (CAA) in 2006. This Act authorized Federal programs to combat ASD and other DD through research, screening, intervention, and education. Through the CAA, the Health Resources and Services Administration (HRSA) is tasked with increasing awareness of ASD and other DD, reducing barriers to screening and diagnosis, promoting evidence-based interventions, and training health care professionals in the use of valid and reliable screening and diagnostic tools.

Purpose: HRSA's activities under this legislation are conducted by the Maternal and Child Health Bureau (MCHB), which is implementing the Combating Autism Act Initiative (CAAI) in response to the legislative mandate. The purpose of this evaluation is to design and implement a three-year assessment of the effectiveness of MCHB's activities in meeting the goals and objectives of the CAAI, and to provide sufficient data to inform MCHB and the Congress as to the utility of the grant programs funded under the Initiative. To address the requirements for the Report to Congress, the evaluation will focus on short-term indicators related to: (1) Increasing awareness of ASD and other DD among health care providers, other MCH professionals and the general public; (2) reducing barriers to screening and diagnosis; (3) supporting research on evidence-based interventions; (4) promoting the development of evidence-based guidelines and tested/validated intervention tools; and (5) training professionals.

Respondents: Grantees funded by HRSA under the CAAI will be the respondents for this data collection activity. The programs to be evaluated are listed below.

1. Training Programs

• Leadership Education in Neurodevelopmental Disabilities (LEND) training programs with thirty nine grantees; and

• Developmental Behavioral Pediatrics (DBP) training programs with six grantees.

2. Research Programs

• Two Autism Intervention Research Networks that focus on intervention research, guideline development, and information dissemination;

• Five R40 Maternal and Child Health (MCH) Autism Intervention Research Program grantees that support research on evidence-based practices for interventions to improve the health and well-being of children and adolescents with ASD and other DD; and

• Two R40 MCH Autism Intervention Secondary Data Analysis Study (SDAS) Program grantees that support research on evidence-based practices for interventions to improve the health and well-being of children and adolescents with ASD and other DD, utilizing exclusively the analysis of existing secondary data.

3. State Implementation Program Grants for Improving Services for Children and Youth With Autism Spectrum Disorder (ASD) and Other Developmental Disabilities (DD)

• Nine grantees will implement state autism plans and develop models for improving the system of care for children and youth with ASD and other DD.

The data gathered through this evaluation will be used to:

• Evaluate the grantees' performance in achieving the objectives of the CAAI during the three year grant period;

• Assess the short- and intermediate-term impacts of the grant programs on children and

• families affected by ASD and other DD;

• Measure the CAAI outputs and outcomes for the Report to Congress; and

• Provide foundation data for future measurement of the initiative's long-term impact.

The estimated response burden is shown in Table 1.

Table 1—Estimated Hour and Cost Burden of the Data Collection
Grant program | No. of respondents | Responses per respondent | Total responses | Average hours per response | Total hour burden | Wage rate | Total hour cost
LEND | 39 | 6 | 234 | .75 | 175.5 | $39.36 | $6907.68
DBP | 6 | 6 | 36 | .75 | 27 | 39.36 | 1062.72
State Implementation Program | 9 | 6 | 54 | .75 | 40.5 | 38.22 | 1547.91
Research Program | 9 | 6 | 54 | .75 | 40.5 | 39.36 | 1594.08
Total | 63 |  | 378 |  | 283.5 |  | 11,112.39

Written comments and recommendations concerning the proposed information collection should be sent within 30 days of this notice to the desk officer for HRSA, either by e-mail to OIRA_submission@omb.eop.gov or by fax to 202-395-6974. Please direct all correspondence to the “attention of the desk officer for HRSA.”

Dated April 28, 2010.
Sahira Rafiullah,
Director, Division of Policy and Information Coordination.

[FR Doc. 2010-10450 Filed 5-3-10; 8:45 am]

BILLING CODE 4165-15-P